DEPARTMENT OF TRANSPORTATION

Maritime Administration

Deepwater Port License: Amendment of the Neptune LNG LLC Deepwater Port License and Temporary Suspension of Operations at the Neptune LNG Deepwater Port

AGENCY: Maritime Administration, Department of Transportation.

ACTION: Notice of Agency Action.

SUMMARY: Pursuant to Section 1503(b)(2) of the Deepwater Port Act of 1974, as amended (Act), the Secretary of Transportation may, on petition of the licensee, amend a Deepwater port license issued under the Act. For purposes of this notice, the Maritime Administration (MarAd) provides public notice of its decision to approve the request of Neptune LNG LLC (Neptune) for a temporary five-year suspension of port operations at the Neptune Deepwater Port by amending the Neptune Deepwater Port License.

ADDRESSES: The Docket Management Facility maintains the public docket for this project. The docket may be viewed electronically at http://www.regulations.gov under docket number USCG-2005-22611, or in person at the U.S. Department of Transportation, Docket Operations, M-30, West Building Ground Floor, Room W12-140, 1200 New Jersey Avenue SE., Washington, DC 20590.

FOR FURTHER INFORMATION CONTACT: If you have questions about the Neptune Deepwater Port License Amendment and suspension of port operations, please contact Ms. Tracey Ford, Acting Office Director, Office of Deepwater Ports and Offshore Activities at (202) 366-0321 or Tracey.Ford@dot.gov. If you have questions on viewing the Docket, contact Ms. Barbara Hairston, Program Manager, Docket Operations at (202) 493-3024 or Barbara.Hairston@dot.gov.

SUPPLEMENTARY INFORMATION: On May 24, 2012, MarAd received a written request from Neptune for authorization to temporarily suspend operations at the Neptune Deepwater Port, located approximately 22 miles northeast of Boston, Massachusetts and 7 miles south-southeast of Gloucester, Massachusetts. In the request, Neptune indicated that recent conditions within the Northeast region's natural gas market had significantly impacted the Neptune Port's operational status and its ability to receive a consistent supply of natural gas imports. As a result, the Neptune Port has remained inactive over the past several years and will likely remain inactive for the foreseeable future. For these reasons, Neptune requested MarAd's authorization to suspend port operations for a period of five years.

After conducting a thorough evaluation and consultation with various Federal agencies, MarAd accepted Neptune's request and authorized amendment of the Neptune Deepwater Port License including a five-year temporary suspension of port operations. The amendment is applicable to Articles 2 and 6 of the License. All other terms, conditions and obligations of the License will remain current and in effect during and after the suspension period. The suspension period became effect on the date of the final executed License amendment, June 26, 2013, and will extend for a period of five years, to be measured in calendar days.

In order to resume operations prior to expiration of the five-year suspension period, Neptune must petition MarAd for approval to resume port operations. The petition must be submitted at least six months prior to the proposed re-start date, and certify that Neptune is in receipt of all applicable Federal and State permits, approvals and authorizations. Should Neptune request an extension of the suspension period, such request must be submitted to MarAd no less than one hundred eighty (180) calendar days prior to the expiration date of the suspension period. Thereafter, MarAd will evaluate, in consultation with the relevant Federal agencies, the appropriateness of such an extension. The final determination on an extension will be rendered by the Maritime Administrator or a designee acting on behalf of the Maritime Administrator.

Additional information pertaining to this public notice may be found in the public docket regarding the Neptune Deepwater Port License online at www.regulations.gov, under docket number USCG-2005-22611 (see ADDRESSES).

Authority: 49 CFR 1.93.

By Order of the Deputy Maritime Administrator.
Dated: July 11, 2013.
Julie P. Agarwal,
Secretary, Maritime Administration.

[FR Doc. 2013-17052 Filed 7-15-13; 8:45 am]

BILLING CODE 4910-81-P